DEPARTMENT OF THE INTERIOR

Bureau of Land Management

[WY-060-1320-EL, WYW163340]

Notice of Intent (NOI) To Prepare an Environmental Impact Statement (EIS) and Notice of Public Meeting on a Federal Coal Lease Application Filed by the Antelope Coal Company in the Decertified Powder River Federal Coal Production Region, Wyoming

AGENCY: Bureau of Land Management, Interior.

ACTION: Notice of intent and notice of public hearing.

SUMMARY: Pursuant to Section 102 (2) (C) of the National Environmental Policy Act (NEPA) of 1969, as amended, the Bureau of Land Management (BLM), Casper Field Office announces its intent to prepare an EIS on the potential impacts of a proposal to surface mine a tract of Federal coal as requested by Antelope Coal Company (Antelope) in Lease-by-Application (LBA) case number WYW163340. Under the provisions of 43 Code of Federal Regulations (CFR) 3425.1, the Antelope Coal Company (Antelope) has submitted a competitive coal LBA for a maintenance tract of Federal coal. The tract is known as the West Antelope II Tract and is adjacent to the Antelope Mine in Campbell and Converse Counties.

DATES: This notice initiates the public scoping process. To provide the public with an opportunity to review the proposal and gain understanding of the LBA process, the BLM will host a meeting on November 1, 2006 at 7 p.m. at the Best Western Douglas Inn, 1450 Riverbend Drive, Douglas, Wyoming. At the meeting, the public is invited to submit comments and resource information, plus identify issues or concerns to be considered in the LBA process. The BLM can best use public input if comments and resource information are submitted by December 1, 2006. The BLM will announce future public meetings and other opportunities to submit comments on this project at least 15 days prior to the events. Announcements will be made through local news media and the Casper Field Office's Web site, which is: http://www.wy.blm.gov/cfo.

FOR FURTHER INFORMATION CONTACT: Nancy Doelger or Mike Karbs, BLM Casper Field Office, 2987 Prospector Drive, Casper, Wyoming 82604. Ms. Doelger or Mr. Karbs may also be reached at (307) 261-7600.

ADDRESSES: Please submit written comments or concerns to the BLM Casper Field Office, Attn: Nancy Doelger, 2987 Prospector Drive, Casper, Wyoming 82604. Written comments or resource information may also be hand-delivered to the BLM Casper Field Office or sent by facsimile to the attention of Nancy Doelger at (307) 261-7587. Comments may be sent electronically to casper_wymail@blm.gov. Please put “West Antelope II LBA Tract/Nancy Doelger” in the subject line.

Members of the public may examine documents pertinent to this proposal by visiting the Casper Field Office during its business hours (7:45 a.m. to 4:30 p.m.), Monday through Friday, except holidays.

SUPPLEMENTARY INFORMATION: Under the provisions of 43 Code of Federal Regulation (CFR) 3425.1, Antelope submitted an application on April 6, 2005 for a competitive coal lease for a maintenance tract adjacent to the company's Antelope Mine in Campbell and Converse Counties, Wyoming. A maintenance tract is a parcel of land containing Federal coal reserves that can be leased to maintain production at an existing mine. The tract is known as the West Antelope II Tract. Consistent with Federal regulations under NEPA and Minerals Leasing Act of 1920, as amended, the BLM must prepare an environmental analysis prior to holding a competitive Federal coal lease sale. The Powder River Regional Coal Team reviewed this LBA at a public meeting held on April 27, 2005, in Gillette, Wyoming, and recommended that the BLM process it.

The West Antelope II Tract application includes approximately 429.7 million tons of in-place Federal coal underlying the following lands in Campbell and Converse counties, Wyoming:

T. 40 N., R. 71 W., 6th PM, Wyoming

Section 5: Lot 18;

Section 8: Lots 1 through 3, 6 through 11, 14 through 16;

Section 9: Lots 2 through 16;

Section 10: Lots 5, 6, 11 through 14;

T. 41 N., R. 71 W., 6th PM, Wyoming

Section 9: Lots 9 through 16;

Section 10: Lots 11 through 15;

Section 14: Lots 3 and 4;

Section 15: Lots 1 through 5, 12, 13;

Section 20: Lots 14 through 16;

Section 21: Lots 1 through 16;

Section 22: Lots 2, 7, 8, 14 through 16;

Section 27: Lots 6 through 11;

Section 28: Lots 1 through 8;

Section 29: Lots 1 through 3, 6 through 8.

Containing 4,108.6 acres more or less.

Antelope proposes to mine the tract as a part of the Antelope Mine. At the 2005 mining rate of 30 million tons per year, the coal included in the West Antelope II Tract would extend the life of the Antelope Mine by as many as 14 years. In accordance with 43 CFR 3425.1-9, the BLM may modify the LBA adding or subtracting lands to avoid bypassing Federal coal or to increase potential competitive interest in the tract. The BLM has identified a study area that includes unleased Federal coal in and around the tract that will be evaluated for inclusion in the tract.

Lands in the application contain private surface estate overlying the Federal coal. In the study area, the surface estate overlying the Federal coal is both privately- and federally-owned. The federally-owned lands are part of the Thunder Basin National Grassland (TBNG), National Forest System administered by the U.S. Department of Agriculture Forest Service (FS).

The Antelope Mine is operating under approved mining permits from the Land Quality and Air Quality Divisions of the Wyoming Department of Environmental Quality.

The FS and the Office of Surface Mining Reclamation and Enforcement (OSM) will be cooperating agencies in the preparation of the EIS. Before the tract can be leased the FS must consent to leasing the portion of the tract that is part of the TBNG. If the West Antelope II Tract is leased to the applicant, the new lease must be incorporated into the existing mining and reclamation plan for the adjacent mine. Before the Federal coal in the tract can be mined the Secretary of the Interior must approve the revised Mineral Leasing Act (MLA) mining plan. The OSM is the Federal agency that is responsible for recommending approval, approval with conditions, or disapproval of the revised MLA mining plan to the Office of the Secretary of the Interior. Other cooperating agencies may be identified during the scoping process.

The BLM will provide interested parties the opportunity to submit comments or relevant information or both. This information will help the BLM identify issues to be considered in preparing a draft EIS for the West Antelope II Tract. Issues that have been identified in analyzing the impacts of previous Federal coal leasing actions in the Wyoming Powder River Basin (PRB) include the need for resolution of conflicts between existing and proposed oil and gas development and coal mining on the tracts proposed for coal leasing; potential impacts to big game herds and hunting; potential impacts to sage grouse; potential impacts to listed threatened and endangered species; potential health impacts related to blasting operations conducted by the mines to remove overburden and coal; the need to consider the cumulative impacts of coal leasing decisions combined with other existing and proposed development in the Wyoming PRB; and potential site-specific and cumulative impacts on air and water quality.

Your response is important and will be considered in the EIS process. If you do respond, we will keep you informed of the availability of environmental documents that address impacts that might occur from this proposal.

We release all comments to the public, including names, addresses, phone numbers, e-mail addresses, and other personal identifying information.

If you comment as a private individual in your personal capacity, you may ask us to withhold personal identifying information from the public. You must do so prominently in writing at the beginning of your comments and must tell us precisely what you want us to withhold. You also must explain in detail why releasing that personal identifying information to the public would constitute a clearly unwarranted invasion of privacy. General assertions that are not supported by specific facts will not meet that burden.

We will withhold personal identifying information from release to the public in response to your request only where, in our judgment, you present sufficient factual justification for our doing so under current laws, regulations, and court decisions. Typically, notwithstanding your request, in all but the most exceptional circumstances, we will release to the public all of the personal identifying information that you submit.

If you comment as or on behalf of an organization or business, we will release your comments to the public in their entirety, including all personal identifying information. We will not consider a request from an organization or business, or anyone commenting on behalf of an organization or business, that we withhold any personal identifying information from release to the public.

Dated: September 22, 2006.
Robert A. Bennett,
State Director.

[FR Doc. E6-17143 Filed 10-16-06; 8:45 am]

BILLING CODE 4310-22-P